DEPARTMENT OF COMMERCE

Foreign-Trade Zones Board

(Docket 55-2005)

Foreign-Trade Zone 127 West Columbia, South Carolina, Application for Subzone, JBE, Inc. (Automotive Parts), Hartsville, South Carolina

An application has been submitted to the Foreign-Trade Zones Board (the Board) by the Columbia Metropolitan Airport, grantee of FTZ 127, requesting special-purpose subzone status for the warehousing and distribution facility of JBE, Inc. (JBE), located in Hartsville, South Carolina. The application was submitted pursuant to the provisions of the Foreign-Trade Zones Act, as amended (19 U.S.C. 81a-81u), and the regulations of the Board (15 CFR part 400). It was formally filed on November 2, 2005.

The JBE facility (80 employees, 13.5 acres) is located at 512 Hartland Drive, Hartsville, Darlington County, South Carolina. The facilities are used for the storage, distribution and inspection of automotive parts and components, and may also be used for manufacturing activity in the future.

Zone procedures would exempt JBE from Customs duty payments on products that are re-exported. Some 10 percent of the products are re-exported. On its domestic sales, the company would be able to defer duty payments until merchandise is shipped from the plant and entered for consumption. FTZ designation may further allow JBE to utilize certain Customs procedures resulting in increased efficiencies for its logistics and distribution operations. In addition, JBE is requesting authority for a secondary scope to provide for future contract manufacturing. Finished products and components included in the secondary scope include automotive parts and accessories (HTS 8414, 8708 and 8709, duty rate ranges from duty-free to 2.5%). The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building - Suite 4100W, 1099 14th St. NW, Washington, D.C. 20005; or

2. Submissions Via the U.S. Postal Service: Foreign-Trade-Zones Board, U.S. Department of Commerce, FCB - Suite 4100W, 1401 Constitution Ave. NW, Washington, D.C. 20230.

The closing period for their receipt is January 17, 2006. Rebuttal comments in response to material submitted during the foregoing period may be submitted during the subsequent 15-day period to February 1, 2006.

A copy of the application and accompanying exhibits will be available for public inspection at the Office of the Foreign-Trade Zones Board's Executive Secretary at the first address listed above, and at the U.S. Department of Commerce Export Assistance Center, 1201 Main Street, Suite 1720, Columbia, SC 29201.

Dated: November 2, 2005.
Dennis Puccinelli,
Executive Secretary.

[FR Doc. 05-22926 Filed 11-17-05; 8:45 am]

BILLING CODE 3510-DS-S